DEPARTMENT OF JUSTICE

Immigration and Naturalization Service

8 CFR Part 245

[INS No. 2048-00]

RIN 1115-AF75

National Interest Waivers for Second Preference Employment-Based Immigrant Physicians Serving in Medically Underserved Areas or at Department of Veterans Affairs Facilities; Correction

AGENCY: Immigration and Naturalization Service, Justice.

ACTION: Correction to interim rule.

SUMMARY: This rule contains a correction to an Immigration and Naturalization Service (Service) interim rule, published in the Federal Register on Wednesday, September 6, 2000, at 65 FR 53889. The interim rule established the procedure under which a physician may obtain a waiver of the job offer requirement that applies to alien beneficiaries of second preference employment-based immigrant visa petitions if the physician is willing to practice full-time in an area designated by the Secretary of Health and Human Services as having a shortage of health care professionals, or in a facility operated by the Department of Veterans Affairs.

DATES: The interim rule is effective October 6, 2000.

FOR FURTHER INFORMATION CONTACT: Craig Howie, Headquarters Adjudications Officer, Adjudications Division, Immigration and Naturalization Service, 425 I Street, NW, Room 3040, Washington, DC 20536, telephone (202) 353-8177.

SUPPLEMENTARY INFORMATION: The Service published an interim rule in the Federal Register on September 6, 2000, at 65 FR 53889. In the interim rule there is a reference to “§ 204(n) of this chapter” the reference should have been to “§ 204.12(a) of this chapter.”

Corrections

In rule document 00-22832 beginning on page 53889 in the issue of Wednesday, September 6, 2000, make the following correction:

§ 245.18 [Corrected]

On page 53896, in the second column, under paragraph (i), on the 8th line, the reference to “§ 204(n)” should be revised to read: “§ 204.12(a)”.

Dated: September 21, 2000.
Doris Meissner,
Commissioner, Immigration and Naturalization Service.

[FR Doc. 00-24698 Filed 9-26-00; 8:45 am]

BILLING CODE 4410-10-M